DEPARTMENT OF TRANSPORTATION

Federal Aviation Administration

RTCA Special Committee 195: Flight Information Services Communications (FISC)

AGENCY: Federal Aviation Administration (FAA), DOT.

ACTION: Notice of RTCA Special Committee 195 meeting.

SUMMARY: The FAA is issuing this notice to advise the public of a meeting of RTCA Special Committee 195: Flight Information Services Communications (FISC).

DATES: The meeting will be held October 24-25, 2001, starting at 8:30 am.

ADDRESSES: The meeting will be held at RTCA, Inc., 1828 L Street, NW., Suite 805, Washington, DC, 20036.

FOR FURTHER INFORMATION CONTACT: RTCA Secretariat, 1828 L Street, NW., Washington, DC 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for a Special Committee 195 meeting. The agenda will include:

• October 24:

• Opening Plenary Session (Welcome and Introductory Remarks, Acceptance of Agenda)

• Working Group 1, Aircraft Cockpit Weather Display

• Progress of Change 1 to DO-267

• Results of FAA Radar Weather Intensity Terms and Boundaries User's Meeting

• Ad Hoc Group: Review of Product Registry Guidance Draft Document

• Discussion of Flight Information Service (FIS) Registry of Products

• Continued Plenary Session (Review of Summary Minutes, Discussion of Change 1 structure to DO-267)

• October 25:

• Discussion of Notices to Airmen (NOTAMS) and Digital Automatic Terminal Information Service (D-ATIS) Product Definition

• Discussion of ICAO Meteorological Information Data Link Study Group Meeting

• Report from Working Group 1 Activities

• Report from Ad Hoc Group

• Closing Plenary Session (Review Action Items, Discussion of Future Workplan, Other Business, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 27, 2001.
Janice L. Peters,
FAA Special Assistant, RTCA Advisory Committee.

[FR Doc. 01-25294 Filed 10-5-01; 8:45 am]

BILLING CODE 4910-13-M